DEPARTMENT OF HOMELAND SECURITY

Coast Guard

33 CFR Part 165

[CGD13-03-025]

RIN 1625-AA00

Safety Zone Regulations, New Tacoma Narrows Bridge Construction Project; Correction

AGENCY: Coast Guard, DHS.

ACTION: Temporary final rule; correction.

SUMMARY: The Coast Guard published in the Federal Register of February 5, 2004, a temporary final rule concerning the safety zone for the new Tacoma Narrows Bridge construction project. The wording in § 165.T13-016 Background and Purpose is being corrected to accurately reflect the location of the new piers. This document makes the clarification.

DATES: The temporary final rule reinstated and revised in the Federal Register (69 FR 5465) was effective on February 6, 2004. This correction is effective on March 1, 2004.

FOR FURTHER INFORMATION CONTACT: LTJG. Tyana Thayer c/o Captain of the Port Puget Sound, 1519 Alaskan Way South, Seattle, Washington 98134, (206) 217-6222.

SUPPLEMENTARY INFORMATION: The Coast Guard published a document in the Federal Register on February 5, 2004 (69 FR 5465). In that document, the location described in Background and Purpose was inaccurate. This correction amends the regulatory text published on February 5, 2004. In rule FR Doc 04-2514 published on February 5, 2004 (69 FR 5465), make the following correction. On 69 FR page 5465, column 3 in Background and Purpose remove the word “north” and add in its place the word “south.”

Dated: March 1, 2004.
Danny Ellis,
Captain, U.S. Coast Guard, Captain of the Port, Puget Sound.

[FR Doc. 04-6033 Filed 3-16-04; 8:45 am]

BILLING CODE 4910-15-P